DEPARTMENT OF COMMERCE

International Trade Administration

[A-552-817]

Certain Oil Country Tubular Goods From the Socialist Republic of Vietnam: Final Results of Antidumping Duty Administrative Review; 2017-2018

AGENCY: Enforcement and Compliance, International Trade Administration, Department of Commerce.

SUMMARY: The Department of Commerce (Commerce) finds that exporters of oil country tubular goods (OCTG) from the Socialist Republic of Vietnam (Vietnam) did not sell subject merchandise in the United States at prices below normal value during the period of review (POR) September 1, 2017 through August 31, 2018.

DATES: Applicable July 10, 2020.

FOR FURTHER INFORMATION CONTACT: Fred Baker, AD/CVD Operations, Office VI, Enforcement and Compliance, International Trade Administration, U.S. Department of Commerce, 1401 Constitution Avenue NW, Washington, DC 20230; telephone: (202) 482-2924.

SUPPLEMENTARY INFORMATION:

Background

Commerce is conducting an administrative review of the antidumping duty order on OCTG from Vietnam in accordance with section 751(a) of the Tariff Act of 1930, as amended (the Act). Commerce initiated this review on November 15, 2018.¹ On November 15, 2019, Commerce published the Preliminary Results of this administrative review.² At that time, we invited interested parties to comment on the Preliminary Results. On December 16, 2019, we received case briefs from U.S. Steel (the petitioner), Maverick Tube Corporation and Tenaris Bay City, Inc. (the domestic interested parties), and SeAH Steel VINA Corporation (SSV).³ However, on April 10, 2020, we rejected the case briefs from the petitioner and the domestic interested parties because they contained new factual information filed after the due date for filing new factual information.⁴ The petitioner and the domestic interested parties submitted redacted versions of their case briefs on April 14, 2020.⁵ On December 30, 2019, the domestic interested parties and SSV submitted rebuttal briefs.⁶ On April 10, 2020, Commerce rejected SSV's rebuttal brief because it contained new factual information filed after the due date for filing new factual information.⁷ SSV submitted a redacted version of its rebuttal brief on April 14, 2020.⁸ On March 12, 2020, Commerce extended the deadline for the final results of review until May 13, 2020.⁹ On April 24, 2020, Commerce tolled all deadlines in administrative reviews by 50 days, thereby extending the deadline for these results until July 2, 2020.¹⁰

¹ See Initiation of Antidumping and Countervailing Duty Administrative Reviews, 83 FR 57411 (November 15, 2018).

² See Certain Oil Country Tubular Goods from the Socialist Republic of Vietnam: Preliminary Results of Antidumping Duty Administrative Review, 84 FR 62504 (November 15, 2019) (Preliminary Results), and accompanying Preliminary Decision Memorandum.

³ See Petitioner's Case Brief, “Oil Country Tubular Goods from the Socialist Republic of Vietnam: Case Brief of United States Steel Corporation,” dated December 16, 2019; Domestic Interested Parties' Case Brief, Oil Country Tubular Goods from the Socialist Republic of Vietnam: Case Brief of Maverick Tube Corporation and Tenaris Bay City, Inc.,” dated December 16, 2019; SSV's Case Brief, “Administrative Review of the Antidumping Duty Order on Certain Oil Country Tubular Goods from Vietnam—Case Brief of SeAH Steel VINA Corporation and Pusan Pipe America, Inc.,” dated December 16, 2019.

⁴ See Commerce's Letter to the Petitioner, “Certain Oil Country Tubular Goods from the Socialist Republic of Vietnam: Rejection of Case Brief,” dated April 10, 2020; and Commerce Letter to Domestic Interested Parties, “Certain Oil Country Tubular Goods from the Socialist Republic of Vietnam: Rejection of Case Brief,” dated April 10, 2020.

⁵ See Petitioner's Case Brief, “Oil Country Tubular Goods from the Socialist Republic of Vietnam: Resubmission of December 16th Case Brief of United States Steel Corporation,” dated April 14, 2020; Domestic Interested Party's Case Brief, “Oil Country Tubular Goods from the Socialist Republic of Vietnam: Resubmission of Case Brief of Maverick Tube Corporation and Tenaris Bay City, Inc., dated April 14, 2020.

⁶ See Domestic Interested Parties' Rebuttal Brief, “Oil Country Tubular Goods from the Socialist Republic of Vietnam: Rebuttal Brief of Maverick Tube Corporation and Tenaris Bay City, Inc.,” dated December 30, 2019.

⁷ See Commerce's Letter, “Certain Oil Country Tubular Goods from the Socialist Republic of Vietnam: Rejection of Rebuttal Brief,” dated April 10, 2020.

⁸ See SSV Rebuttal Brief, “Administrative Review of the Antidumping Order on Certain Oil Country Tubular Goods from Vietnam—Redacted Case (sic) Brief,” dated April 14, 2020.

⁹ See Memorandum, “Oil Country Tubular Goods from the Socialist Republic of Vietnam: Extension of Deadline for Final Results of Antidumping Duty Administrative Review,” dated March 12, 2020.

¹⁰ See Memorandum, “Tolling of Deadlines for Antidumping and Countervailing Duty Administrative Reviews in Response to Operational Adjustments Due to COVID-19,” dated April 24, 2020.

Scope of the Order

The merchandise covered by the order is OCTG from Vietnam. For a full description of the merchandise covered by the scope of the antidumping duty order on OCTG from Vietnam, see the Issues and Decision Memorandum.¹¹

¹¹ See Memorandum, “Issues and Decision Memorandum for the Final Results of the 2017-2018 Administrative Review of the Antidumping Duty Order on Oil Country Tubular Goods from the Socialist Republic of Vietnam,” dated concurrently with, and hereby adopted by, this notice (Issues and Decision Memorandum).

Analysis of Comments Received

All issues raised in the case and rebuttal briefs filed by parties in this review and addressed in the Issues and Decision Memorandum are listed in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/index.html. The signed and electronic versions of the Issues and Decision Memorandum are identical in content.

Changes Since the Preliminary Results

Based on our analysis of the comments received, we have made certain changes to the margin calculation for the respondent. For a discussion of these changes, see the “Margin Calculations” section of the Issues and Decision Memorandum.

Final Results of Review

Commerce determines that the following weighted-average dumping margin exists for the period September 1, 2017 through August 31, 2018:

¹² Commerce initiated a review of both SSV and Pusan Pipe America, Inc. (Pusan Pipe), but the record shows that Pusan Pipe is a U.S. importer of OCTG that is affiliated with SSV, and does not produce OCTG. See SSV's December 19, 2018 Section A Questionnaire Response at 1. Therefore, we have not calculated a rate for Pusan Pipe.

Exporter | Weighted- average dumping margin (percent)
SeAH Steel VINA Corporation ¹² | 0.00

Assessment

Pursuant to section 751(a)(2)(A) of the Act and 19 CFR 351.212(b)(1), Commerce will determine, and U.S. Customs and Border Protection (CBP) shall assess, antidumping duties on all appropriate entries of subject merchandise in accordance with the final results of this review. Commerce intends to issue assessment instructions to CBP 15 days after the date of publication of the final results of this administrative review in the Federal Register.

Consistent with Commerce's assessment practice in non-market economy cases, for entries that were not reported in the U.S. sales database submitted by companies individually examined during the administrative review, Commerce will instruct CBP to liquidate such entries at the Vietnam-wide rate. Additionally, if Commerce determines that an exporter under review had no shipments of subject merchandise, any suspended entries that entered under the exporter's case number (i.e., at that exporter's rate) will be liquidated at the Vietnam-wide rate.¹³

¹³ See Non-Market Economy Antidumping Proceedings: Assessment of Antidumping Duties, 76 FR 65694 (October 24, 2011).

Cash Deposit Requirements

The following cash deposit requirements will be effective upon publication of the final results of this administrative review for all shipments of the subject merchandise from Vietnam entered, or withdrawn from warehouse, for consumption on or after the publication date, as provided for by section 751(a)(2)(C) of the Act: (1) For SSV, a zero cash deposit rate; (2) for previously investigated or reviewed Vietnamese and non-Vietnamese exporters not listed above that received a separate rate in a prior segment of this proceeding, the cash deposit rate will continue to be the exporter-specific rate published for the most-recently completed segment of this proceeding in which the exporter was reviewed; (3) for all Vietnamese exporters of subject merchandise which have not been found to be entitled to a separate rate, the cash deposit rate will be the rate established for the Vietnam-wide entity, which is 111.47 percent; ¹⁴ and (4) for all non-Vietnamese exporters of subject merchandise which have not received their own rate, the cash deposit rate will be the rate applicable to the Vietnamese exporter that supplied that non-Vietnamese exporter with the subject merchandise. These deposit requirements, when imposed, shall remain in effect until further notice.

¹⁴ See Certain Oil Country Tubular Goods from India, the Republic of Korea, Taiwan, the Republic of Turkey, and the Socialist Republic of Vietnam: Antidumping Duty Orders; and Certain Oil Country Tubular Goods from the Socialist Republic of Vietnam: Amended Final Determination of Sales at Less Than Fair Value, 79 FR 53691 (September 10, 2014).

Disclosure

We intend to disclose the calculations performed for these final results of review within five days of the date of publication of this notice in the Federal Register, in accordance with 19 CFR 351.224(b).

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification Regarding Administrative Protective Order

This notice also serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

We are issuing and publishing this notice in accordance with sections 751(a)(1) and 777(i)(1) of the Act, and 19 CFR 351.221(b)(5).

Dated: July 2, 2020.
Jeffrey I. Kessler,
Assistant Secretary for Enforcement and Compliance.

Appendix

List of Topics Discussed in the Issues and Decision Memorandum

I. Summary

II. Background

III. Scope of the Order

IV. Margin Calculations

V. Discussion of the Issues

Comment 1: Brokerage and Handling

Comment 2: Surrogate Value for Water

Comment 3: Differential Pricing

Comment 4: Financial Statements

Comment 5: Particular Market Situation

Comment 6: Ministerial Errors

VI. Recommendation

[FR Doc. 2020-14919 Filed 7-9-20; 8:45 am]

BILLING CODE 3510-DS-P